INTER-AMERICAN FOUNDATION

Sunshine Act Meeting

TIME AND DATE: October 29, 2001, 9:00 a.m.-3:30 p.m.

PLACE: Inter-American Foundation, 901 N. Stuart Street, 10th Floor, Arlington, VA 22203.

STATUS: Open session.

MATTERS TO BE CONSIDERED:

• Approval of the Minutes of the April 23, 2001, Meeting of the Board of Directors

• President's Report

• Country Priorities Presentation

• Overview of IAF

• IAF Strategic Plan for Fiscal Years 2002-2007

• IAF 2000 Results Report

• IAF Web Site

• Review of a Sample of Successful Closed-out Grants

• IAF Experience with Corporate Partners

• Improving the Role, Mission, and Operations of the IAF

CONTACT PERSON FOR MORE INFORMATION: Carolyn Karr, General Counsel, (703) 306-4350.

Dated: October 22, 2001.
Carolyn Karr,
General Counsel.

[FR Doc. 01-27061 Filed 10-23-01; 3:02 pm]

BILLING CODE 7025-01-M